ENVIRONMENTAL PROTECTION AGENCY

[ER-FRL-9046-8]

Environmental Impact Statements; Notice of Availability

Responsible Agency: Office of Federal Activities, General Information 202-564-5632 or https://www.epa.gov/nepa/.

Weekly receipt of Environmental Impact Statements

Filed 09/09/2019 10 a.m. ET through 09/16/2019 10 a.m. ET

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20190225, Draft, FRA, GA, Atlanta to Charlotte Passenger Rail Corridor Investment Plan, Comment Period Ends: 11/04/2019, Contact: John Winkle 202-493-6067.

EIS No. 20190226, Final, USFS, WA, Colville National Forest Plan Revision, Review Period Ends: 10/21/2019, Contact: Lisa Larsen 509-775-7454.

EIS No. 20190227, Final, BLM, AK, Coastal Plain Oil and Gas Leasing Program, Review Period Ends: 10/21/2019, Contact: Nicole Hayes 907-271-4354.

EIS No. 20190228, Draft, USFS, CO, Pike and San Isabel National Forests Public Motor Vehicle Use, Comment Period Ends: 11/04/2019, Contact: John Dow 719-250-5311.

EIS No. 20190229, Final, USFS, OR, Ragged Ruby Project, Review Period Ends: 11/12/2019, Contact: Sasha Fertig or Bethany Parker 541-575-3061 or 541-575-3187.

EIS No. 20190230, Final, USFS, CA, Revision of the Inyo National Forest Land and Resource Management Plan, Review Period Ends: 10/21/2019, Contact: Erin Noesser 760-873-2449.

Dated: September 16, 2019.
Robert Tomiak,
Director, Office of Federal Activities.

[FR Doc. 2019-20408 Filed 9-19-19; 8:45 am]

BILLING CODE 6560-50-P